DEPARTMENT OF ENERGY

Federal Energy Regulatory Commission

Combined Notice of Filings #1

Take notice that the Commission received the following exempt wholesale generator filings:

Docket Numbers: EG13-50-000.

Applicants: Whitetail Wind Energy, LLC.

Description: Self-Certification of EG of Whitetail Wind Energy, LLC.

Filed Date: 8/7/13.

Accession Number: 20130807-5164.

Comments Due: 5 p.m. ET 8/28/13.

Take notice that the Commission received the following electric rate filings:

Docket Numbers: ER13-1709-001.

Applicants: Blackwell Wind, LLC.

Description: Blackwell Wind, LLC Amendment to MBR Tariff to be effective 8/8/2013.

Filed Date: 8/7/13.

Accession Number: 20130807-5162.

Comments Due: 5 p.m. ET 8/28/13.

Docket Numbers: ER13-1710-001.

Applicants: Elk City Wind, LLC.

Description: Elk City Wind, LLC Amendment to MBR Tariff to be effective 8/8/2013.

Filed Date: 8/7/13.

Accession Number: 20130807-5167.

Comments Due: 5 p.m. ET 8/28/13.

Docket Numbers: ER13-1711-001.

Applicants: Elk City II Wind, LLC.

Description: Elk City II Wind, LLC Amendment to MBR Tariff to be effective 8/8/2013.

Filed Date: 8/7/13.

Accession Number: 20130807-5168.

Comments Due: 5 p.m. ET 8/28/13.

Docket Numbers: ER13-1712-001.

Applicants: FPL Energy Cowboy Wind, LLC.

Description: FPL Energy Cowboy Wind, LLC Amendment to MBR Tariff to be effective 8/8/2013.

Filed Date: 8/7/13.

Accession Number: 20130807-5170.

Comments Due: 5 p.m. ET 8/28/13.

Docket Numbers: ER13-1713-001.

Applicants: FPL Energy Oklahoma Wind, LLC.

Description: FPL Energy Oklahoma Wind, LLC Amendment to MBR Tariff to be effective 8/8/2013.

Filed Date: 8/7/13.

Accession Number: 20130807-5171.

Comments Due: 5 p.m. ET 8/28/13.

Docket Numbers: ER13-1714-001.

Applicants: FPL Energy Sooner Wind, LLC.

Description: FPL Energy Sooner Wind, LLC Amendment to MBR Tariff to be effective 8/8/2013.

Filed Date: 8/7/13.

Accession Number: 20130807-5172.

Comments Due: 5 p.m. ET 8/28/13.

Docket Numbers: ER13-1715-001.

Applicants: High Majestic Wind II, LLC.

Description: High Majestic Wind II, LLC Amendment to MBR Tariff to be effective 8/8/2013.

Filed Date: 8/7/13.

Accession Number: 20130807-5175.

Comments Due: 5 p.m. ET 8/28/13.

Docket Numbers: ER13-1716-001.

Applicants: Minco Wind, LLC.

Description: Minco Wind, LLC Amendment to MBR Tariff to be effective 8/8/2013.

Filed Date: 8/7/13.

Accession Number: 20130807-5176.

Comments Due: 5 p.m. ET 8/28/13.

Docket Numbers: ER13-1717-001.

Applicants: Minco Wind II, LLC.

Description: Minco Wind II, LLC Amendment to MBR Tariff to be effective 8/8/2013.

Filed Date: 8/7/13.

Accession Number: 20130807-5177.

Comments Due: 5 p.m. ET 8/28/13.

Docket Numbers: ER13-1720-001.

Applicants: Gray County Wind Energy, LLC.

Description: Gray County Wind Energy, LLC Amendment to MBR Tariff to be effective 8/8/2013.

Filed Date: 8/7/13.

Accession Number: 20130807-5173.

Comments Due: 5 p.m. ET 8/28/13.

Docket Numbers: ER13-1721-001.

Applicants: High Majestic Wind Energy Center, LLC.

Description: High Majestic Wind Energy Center, LLC Amendment to MBR Tariff to be effective 8/8/2013.

Filed Date: 8/7/13.

Accession Number: 20130807-5174.

Comments Due: 5 p.m. ET 8/28/13.

Docket Numbers: ER13-2126-000.

Applicants: PJM Interconnection, L.L.C.

Description: Queue Position Y2-100; Original Service Agreement No. 3608 to be effective 7/8/2013.

Filed Date: 8/7/13.

Accession Number: 20130807-5151.

Comments Due: 5 p.m. ET 8/28/13.

Docket Numbers: ER13-2127-000.

Applicants: Cimarron Wind Energy, LLC.

Description: Cimarron Wind Energy, LLC Amendment to MBR Tariff to be effective 8/8/2013.

Filed Date: 8/7/13.

Accession Number: 20130807-5163.

Comments Due: 5 p.m. ET 8/28/13.

Docket Numbers: ER13-2128-000.

Applicants: Ensign Wind, LLC.

Description: Ensign Wind, LLC Amendment to MBR Tariff to be effective 8/8/2013.

Filed Date: 8/7/13.

Accession Number: 20130807-5169.

Comments Due: 5 p.m. ET 8/28/13.

Docket Numbers: ER13-2129-000.

Applicants: Minco Wind III, LLC.

Description: Minco Wind III, LLC Amendment to MBR Tariff to be effective 8/8/2013.

Filed Date: 8/7/13.

Accession Number: 20130807-5179.

Comments Due: 5 p.m. ET 8/28/13.

Docket Numbers: ER13-2130-000.

Applicants: Minco Wind Interconnection Services, LLC.

Description: Minco Wind Interconnection Services, LLC Amendment to MBR Tariff to be effective 8/8/2013.

Filed Date: 8/7/13.

Accession Number: 20130807-5181.

Comments Due: 5 p.m. ET 8/28/13.

Docket Numbers: ER13-2131-000.

Applicants: PJM Interconnection, L.L.C.

Description: Queue Position Y2-109; Original Service Agreement No. 3607 to be effective 7/8/2013.

Filed Date: 8/7/13.

Accession Number: 20130807-5194.

Comments Due: 5 p.m. ET 8/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2013.
Nathaniel J. Davis, Sr.,
Deputy Secretary.

[FR Doc. 2013-19797 Filed 8-14-13; 8:45 am]

BILLING CODE 6717-01-P